DEPARTMENT OF DEFENSE

Office of the Secretary

[Docket ID DOD-2010-OS-0034]

Defense Transportation Regulation, Part IV

AGENCY: United States Transportation Command (USTRANSCOM), DOD.

ACTION: Notice.

SUMMARY: DOD has issued Phase III Final-Draft Business Rules for the Defense Personal Property Program (DP3) in the Defense Transportation Regulation (DTR) Part IV (DTR 4500.9R). The Phase III Business Rules encompass procedures for Non-temporary Storage (NTS), Domestic Small Shipments (dS2, formerly DPM), Domestic and International Local Moves (dLM and iLM) and International Intra-Country Moves (iCM). DP3 Phase III Business Rules will appear as DTR Part IV, Appendix V, and are available for review on the USTRANSCOM Web site at http://www.transcom.mil/j5/pt/dtr_part_iv_phase_iii.cfm.

DATES: Comments must be received on or before 1 June 2010.

ADDRESSES: Do not submit comments directly to the point of contact under FOR FURTHER INFORMATION CONTACT or mail your comments to any address other than what is shown below. Doing so will delay the posting of the submission. Request comments be submitted in the identified matrix-format posted with the business rules. You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Jim Teague, United States Transportation Command, TCJ5/4-PI, 508 Scott Drive, Scott Air Force Base, IL 62225-5357; (618) 229-1985.

SUPPLEMENTARY INFORMATION: In furtherance of DOD's goal to develop and implement an efficient personal property program to facilitate quality movements for our military members and civilian employees, Phase III Business Rules were developed in concert with the Military Services and SDDC. The following Phase III Business Rules are available for review and comment:

Attachment V.C—TSP Qualifications

Attachment V.D—Rate Filing

Attachment V.E—Customer Satisfaction Survey

Attachment V.F—Best Value Score

Attachment V.G—Electronic Bill Payment

Attachment V.H—TSP Ranking

Attachment V.J—Shipment Management

Attachment V.Q—Quality Assurance

Note: The associated operational NTS Tender of Service, dS2 Solicitation, and dLM/iLM/iCM Tender of Service are available on the Military Surface Deployment and Distribution Command (SDDC) Web site at: http://www.sddc.army.mil/Public/Personal%20Property/Defense%20Personal%20Property%20Program/Phase%20III?summary=fullcontent.

Any subsequent modification(s) to the business rules will be published in the Federal Register and incorporated into the Defense Transportation Regulation (DTR) Part IV (DTR 4500.9R). These program requirements do not impose a legal requirement, obligation, sanction or penalty on the public sector, and will not have an economic impact of $100 million or more.

Additional Information

A complete version of the DTR is available via the Internet on the USTRANSCOM homepage at http://www.transcom.mil/j5/pt/dtr_part_iv.cfm.

Dated: March 29, 2010.
Mitchell S. Bryman,
Alternate OSD Federal Register Liaison Officer, Department of Defense.

[FR Doc. 2010-7339 Filed 3-31-10; 8:45 am]

BILLING CODE 5001-06-P